ENVIRONMENTAL PROTECTION AGENCY

40 CFR Parts 52 and 81

[MI75-7284b; FRL-6907-2]

Approval and Promulgation of State Implementation Plans; Michigan

AGENCY: Environmental Protection Agency.

ACTION: Notice of proposed rulemaking.

SUMMARY: The Environmental Protection Agency (EPA) is proposing to adjust the applicability date for reinstating the 1-hour ozone National Ambient Air Quality Standard (NAAQS) in Allegan County, Michigan and is proposing on a determination that this area has attained the 1-hour ozone NAAQS. This determination is based on 3 consecutive years of complete, quality-assured, ambient air monitoring data for the 1997-1999 ozone seasons that demonstrate that the area has attained the ozone NAAQS. On the basis of this determination, EPA is also proposing that certain attainment demonstration requirements, and certain related requirements of part D of subchapter I of the Clean Air Act (CAA), do not apply to Allegan County.

EPA is also proposing to approve the State of Michigan's request to redesignate Allegan County to attainment for the 1-hour ozone NAAQS. Michigan submitted the redesignation request for these areas on September 1 and October 13, 2000. EPA is also proposing to approve the State's plan for maintaining the 1-hour ozone standard for the next 10 years as a revision to the Michigan State Implementation Plan (SIP). In this direct final rule, EPA is also notifying the public that we believe the motor vehicle emissions budgets for volatile organic compounds (VOC) and oxides of nitrogen ( NOX) in the Allegan County maintenance plan are adequate for conformity purposes and approvable as part of the maintenance plan.

In the final rules section of this Federal Register, EPA is approving the State's request as a direct final rule without prior proposal because EPA views this action as noncontroversial and anticipates no adverse comments. A detailed rationale for approving and disapproving portions of the State's request is set forth in the direct final rule. The direct final rule will become effective without further notice unless the Agency receives relevant adverse written comment on this proposed rule within 30 days of this publication. Should EPA receive adverse comment, it will publish a document informing the public that the direct final rule will not take effect and that EPA will address adverse comments in a subsequent final rule based on this proposed rule. If EPA does not receive adverse comments, the direct final rule will take effect on the date stated in that document and EPA will not take further action on this proposed rule. EPA does not plan to institute a second comment period on this action. Any parties interested in commenting on this document should do so at this time.

DATES: EPA must receive written comments by December 26, 2000.

ADDRESSES: Send written comments to: Carlton T. Nash, Chief, Regulation Development Section, Air Programs Branch (AR-18J), United States Environmental Protection Agency, 77 West Jackson Boulevard, Chicago, Illinois 60604.

FOR FURTHER INFORMATION CONTACT: John Mooney at (312) 886-6043.

SUPPLEMENTARY INFORMATION: For additional information see the direct final rule published in the rules section of this Federal Register. Copies of the documents relevant to this action are available for public inspection during normal business hours at the above address. (Please telephone John Mooney at (312) 886-6043 before visiting the Region 5 Office.)

Authority: 42 U.S.C. 7401-7671 et seq.

Dated: November 15, 2000.
Gary Gulezian,
Acting Regional Administrator, Region 5.

[FR Doc. 00-30005 Filed 11-22-00; 8:45 am]

BILLING CODE 6560-50-P